BUREAU OF CONSUMER FINANCIAL PROTECTION

[Docket No. CFPB-2020-0009]

Agency Information Collection Activities: Comment Request

AGENCY: Bureau of Consumer Financial Protection.

ACTION: Notice and request for comment.

SUMMARY: In accordance with the Paperwork Reduction Act of 1995 (PRA), the Bureau of Consumer Financial Protection (Bureau) is requesting a renewal of the Office of Management and Budget (OMB) approval for the information collection titled, “Consumer Response Company Response Survey.”

DATES: Written comments are encouraged and must be received on or before March 24, 2020 to be assured of consideration.

ADDRESSES: You may submit comments, identified by the title of the information collection, OMB Control Number (see below), and docket number (see above), by any of the following methods:

• Electronic: http://www.regulations.gov. Follow the instructions for submitting comments.

• Mail/Hand Delivery/Courier: Bureau of Consumer Financial Protection (Attention: PRA Office), 1700 G Street NW, Washington, DC 20552.

Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to the Bureau of Consumer Financial Protection (Attention: PRA Office), 1700 G Street NW, Washington, DC 20552; telephone: (202) 435-9575, or email: PRA_Comments@cfpb.gov. Please do not submit comments to this mailbox.

SUPPLEMENTARY INFORMATION:

Title of Collection: Consumer Response Company Response Survey.

OMB Control Number: 3170-0069.

Type of Review: Extension without change of a currently approved information collection.

Affected Public: Individuals or Households.

Estimated Number of Respondents: 47,900.

Estimated Total Annual Burden Hours: 3,830.

Abstract: The purpose of this information collection is to continue the collection of consumer feedback through an optional survey at the end of the consumer complaint process. Through the existing survey, consumers have the option to provide feedback on the company's response to and handling of their complaint. The results of this feedback are shared with the company that responded to the complaint to inform its complaint handling. The feedback is also used as one of several inputs to inform the Bureau's work to assess the accuracy, completeness, and timeliness of company responses to consumer complaints.

The consumer has the ability to answer three questions about the company's response to and handling of his or her complaint and provide a narrative description in support of each answer. Positive feedback about the company's handling of the consumer's complaint would be reflected by affirmative answers to each question and by the narrative in support of each answer. The Company Response Survey allows consumers to offer both positive and negative feedback on their complaint experience.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: January 21, 2020.
Darrin King,
Paperwork Reduction Act Officer, Bureau of Consumer Financial Protection.

[FR Doc. 2020-01156 Filed 1-23-20; 8:45 am]

BILLING CODE 4810-AM-P